DEPARTMENT OF TRANSPORTATION

Federal Aviation Administration

14 CFR Part 97

[Docket No. 30848; Amdt. No. 3484]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 16, 2012. The compliance date for each SIAP, associated Takeoff Minimums, and ODP is specified in the amendatory provisions.

The incorporation by reference of certain publications listed in the regulations is approved by the Director of the Federal Register as of July 16, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on June 22, 2012.
John Duncan,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 26 JULY 2012

Montgomery, AL, Montgomery Rgnl (Dannelly Field), Takeoff Minimums and Obstacle DP, Amdt 2

Camden, AR, Harrell Field, VOR/DME RWY 1, Amdt 10

Tucson, AZ, Tucson Intl, Takeoff Minimums and Obstacle DP, Amdt 5

Santa Ana, CA, John Wayne Airport-Orange County, LOC BC RWY 1L, Amdt 11

Dover/Cheswold, DE, Delaware Airpark, RNAV (GPS) RWY 9, Amdt 2

Dover/Cheswold, DE, Delaware Airpark, RNAV (GPS) RWY 27, Amdt 1

Dover/Cheswold, DE, Delaware Airpark, VOR RWY 27, Amdt 6B

Pensacola, FL, Pensacola Gulf Coast Rgnl, ILS OR LOC RWY 17, Amdt 14

Pensacola, FL, Pensacola Gulf Coast Rgnl, NDB RWY 35, Amdt 17

Pensacola, FL, Pensacola Gulf Coast Rgnl, RNAV (GPS) RWY 8, Amdt 2

Pensacola, FL, Pensacola Gulf Coast Rgnl, RNAV (GPS) RWY 17, Amdt 2

Pensacola, FL, Pensacola Gulf Coast Rgnl, RNAV (GPS) RWY 26, Amdt 2

Pensacola, FL, Pensacola Gulf Coast Rgnl, RNAV (GPS) RWY 35, Amdt 2

Pensacola, FL, Pensacola Gulf Coast Rgnl, Takeoff Minimums and Obstacle DP, Amdt 1

Pensacola, FL, Pensacola Gulf Coast Rgnl, VOR RWY 8, Amdt 4

Augusta, GA, Augusta Rgnl at Bush Field, ILS OR LOC RWY 17, Amdt 9

Augusta, GA, Augusta Rgnl at Bush Field, ILS OR LOC RWY 35, Amdt 28

Augusta, GA, Augusta Rgnl at Bush Field, RNAV (GPS) RWY 17, Amdt 2

Augusta, GA, Augusta Rgnl at Bush Field, RNAV (GPS) RWY 26, Amdt 1

Augusta, GA, Augusta Rgnl at Bush Field, RNAV (GPS) RWY 35, Amdt 2

Augusta, GA, Augusta Rgnl at Bush Field, RNAV (GPS) Y RWY 8, Amdt 1

Augusta, GA, Augusta Rgnl at Bush Field, RNAV (GPS) Z RWY 8, Orig

Augusta, GA, Augusta Rgnl at Bush Field, Takeoff Minimums and Obstacle DP, Amdt 14

Augusta, GA, Augusta Rgnl at Bush Field, VOR/DME RWY 17, Amdt 4

Griffin, GA, Griffin-Spalding County, GPS RWY 14, Orig-B, CANCELED

Griffin, GA, Griffin-Spalding County, GPS RWY 32, Orig-B, CANCELED

Griffin, GA, Griffin-Spalding County, NDB RWY 32, Orig-B, CANCELED

Griffin, GA, Griffin-Spalding County, RNAV (GPS) RWY 14, Orig

Griffin, GA, Griffin-Spalding County, RNAV (GPS) RWY 32, Orig

Griffin, GA, Griffin-Spalding County, Takeoff Minimums and Obstacle DP, Amdt 1

Swainsboro, GA, East Georgia Regional, ILS OR LOC/DME RWY 14, Amdt 1

Swainsboro, GA, East Georgia Regional, NDB RWY 14, Amdt 2

Swainsboro, GA, East Georgia Regional, RNAV (GPS) RWY 14, Amdt 1A

Swainsboro, GA, East Georgia Regional, RNAV (GPS) RWY 32, Amdt 2

Swainsboro, GA, East Georgia Regional, Takeoff Minimums and Obstacle DP, Amdt 2

Swainsboro, GA, Emanuel County, VOR/DME-A, Amdt 3, CANCELED

Tifton, GA, Henry Tift Myers, ILS OR LOC RWY 33, Amdt 1

Clinton, IA, Clinton Muni, RNAV (GPS) RWY 32, Amdt 1

Indianapolis, IN, Indianapolis Metropolitan, VOR RWY 33, Amdt 10

Louisville, KY, Louisville Intl-Standiford Field, RNAV (RNP) Z RWY 17L, Orig

Louisville, KY, Louisville Intl-Standiford Field, RNAV (RNP) Z RWY 17R, Orig

Louisville, KY, Louisville Intl-Standiford Field, RNAV (RNP) Z RWY 35L, Amdt 1

Louisville, KY, Louisville Intl-Standiford Field, RNAV (RNP) Z RWY 35R, Orig

Paducah, KY, Barkley Rgnl, ILS OR LOC RWY 4, Amdt 10

Benton Harbor, MI, Southwest Michigan Rgnl, ILS OR LOC RWY 28, Amdt 8

Benton Harbor, MI, Southwest Michigan Rgnl, RNAV (GPS) RWY 28, Amdt 2

Detroit, MI, Detroit Metropolitan Wayne County, ILS OR LOC RWY 3R, ILS RWY 3R (CAT II), ILS RWY 3R (CAT III), Amdt 15C

Detroit, MI, Detroit Metropolitan Wayne County, ILS OR LOC RWY 27L, Amdt 3A

Detroit, MI, Detroit Metropolitan Wayne County, ILS PRM RWY 3R, ILS PRM RWY 3R (CAT II), ILS PRM RWY 3R (CAT III), (Simultaneous Close Parallel), Orig-B

Detroit, MI, Detroit Metropolitan Wayne County, ILS Y RWY 22R, Orig-B

Detroit, MI, Detroit Metropolitan Wayne County, ILS Y PRM RWY 22R, Orig-C

Detroit, MI, Detroit Metropolitan Wayne County, ILS Z OR LOC RWY 22R, Amdt 2C

Detroit, MI, Detroit Metropolitan Wayne County, RNAV (GPS) RWY 21L, Amdt 2A

Mackinac Island, MI, Mackinac Island, GPS RWY 26, Orig, CANCELED

Mackinac Island, MI, Mackinac Island, RNAV (GPS) RWY 8, Orig

Mackinac Island, MI, Mackinac Island, RNAV (GPS) RWY 26, Orig

Mackinac Island, MI, Mackinac Island, VOR/DME-A, Amdt 9

Saginaw, MI, Saginaw County H.W. Browne, Takeoff Minimums and Obstacle DP, Amdt 8

Detroit Lakes, MN, Detroit Lakes-Wething Field, VOR RWY 13, Amdt 1

Detroit Lakes, MN, Detroit Lakes-Wething Field, VOR RWY 31, Amdt 1

Lexington, NC, Davidson County, GPS RWY 6, Orig-A, CANCELED

Lexington, NC, Davidson County, GPS RWY 24, Orig-A, CANCELED

Lexington, NC, Davidson County, ILS OR LOC/DME RWY 6, Amdt 1

Lexington, NC, Davidson County, RNAV (GPS) RWY 6, Orig

Lexington, NC, Davidson County, RNAV (GPS) RWY 24, Orig

Lexington, NC, Davidson County, Takeoff Minimums and Obstacle DP, Amdt 1

Washington, NC, Warren Field, VOR/DME RWY 5, Amdt 3

Atkinson, NE., Stuart-Atkinson Muni, RNAV (GPS) RWY 11, Amdt 1

Newark, NJ, Newark Liberty Intl, GLS RWY 4L, Orig-C

Newark, NJ, Newark Liberty Intl, ILS OR LOC RWY 4L, ILS RWY 4L (SA CAT I), ILS RWY 4L (SA CAT II), Amdt 14

Newark, NJ, Newark Liberty Intl, RNAV (GPS) RWY 4L, Amdt 2

Farmingdale, NY, Republic, RNAV (GPS) RWY 1, Amdt 2

Farmingdale, NY, Republic, RNAV (GPS) RWY 19, Amdt 2

Farmingdale, NY, Republic, RNAV (GPS) Y RWY 14, Amdt 2

New York, NY, La Guardia, RNAV (GPS) RWY 31, Amdt 1

Penn Yan, NY, Penn Yan, Takeoff Minimums and Obstacle DP, Amdt 4

Grants Pass, OR, Grants Pass, GPS-A, Amdt 1, CANCELED

Grants Pass, OR, Grants Pass, RNAV (GPS)-A, Orig

Grants Pass, OR, Grants Pass, Takeoff Minimums and Obstacle DP, Amdt 1

Charleston, SC, Charleston AFB/Intl, ILS OR LOC RWY 15, ILS RWY 15 (SA CAT I), ILS RWY 15 (CAT II), Amdt 24

Charleston, SC, Charleston AFB/Intl, RNAV (RNP) Z RWY 3, Orig

Charleston, SC, Charleston AFB/Intl, RNAV (RNP) Z RWY 15, Orig

Charleston, SC, Charleston AFB/Intl, RNAV (RNP) Z RWY 21, Orig

Charleston, SC, Charleston AFB/Intl, RNAV (RNP) Z RWY 33, Orig

Dillon, SC, Dillon County, Takeoff Minimums and Obstacle DP, Amdt 1

Aberdeen, SD, Aberdeen Regional, LOC/DME BC RWY 13, Amdt 10A, CANCELED

Dallas, TX, Collin County Rgnl at Mc Kinney, RNAV (GPS) RWY 18, Amdt 2

Dallas, TX, Collin County Rgnl at Mc Kinney, RNAV (GPS) RWY 36, Amdt 2

Dallas, TX, Collin County Rgnl at Mc Kinney, Takeoff Minimums and Obstacle DP, Amdt 2

Dallas, TX, Collin County Rgnl at Mc Kinney, VOR/DME-A, Amdt 2

Houston, TX, Ellington Field, RNAV (GPS) RWY 22, Amdt 2

Kountze/Silsbee, TX, Hawthorne Field, RNAV (GPS) RWY 13, Amdt 1

Longview, TX, East Texas Rgnl, RNAV (GPS) RWY 18, Amdt 2

Heber, UT, Heber City Muni-Russ McDonald Field, RNAV (GPS)-A, Amdt 2

Abingdon, VA, Virginia Highlands, LOC RWY 24, Amdt 4

Abingdon, VA, Virginia Highlands, RNAV (GPS) RWY 6, Amdt 1

Abingdon, VA, Virginia Highlands, RNAV (GPS) RWY 24, Amdt 1

Everett, WA, Snohomish County (Paine Fld), ILS OR LOC/DME Y RWY 16R, Amdt 22

Everett, WA, Snohomish County (Paine Fld), ILS OR LOC/DME Z RWY 16R, ILS Z RWY 16R (SA CAT II), Orig

Everett, WA, Snohomish County (Paine Fld), RNAV (GPS) RWY 34L, Amdt 1

Everett, WA, Snohomish County (Paine Fld), RNAV (GPS)Y RWY 16R, Amdt 1

Everett, WA, Snohomish County (Paine Fld), RNAV (GPS) Z RWY 16R, Orig

Madison, WI, Dane County Rgnl-Truax Field, RNAV (GPS) RWY 3, Orig

Madison, WI, Dane County Rgnl-Truax Field, RNAV (GPS) RWY 21, Amdt 2

Shawano, WI, Shawano Muni, GPS RWY 29, Orig-A CANCELED

Shawano, WI, Shawano Muni, RNAV (GPS) RWY 12, Orig

Shawano, WI, Shawano Muni, RNAV (GPS) RWY 30, Orig

Pinedale, WY, Ralph Wenz Field, RNAV (GPS) RWY 11, Amdt 2

Pinedale, WY, Ralph Wenz Field, RNAV (GPS) RWY 29, Amdt 2

[FR Doc. 2012-16491 Filed 7-13-12; 8:45 am]

BILLING CODE 4910-13-P